DEPARTMENT OF COMMERCE

National Telecommunications and Information Administration

[Docket Number: 140821696-4830-02]

RIN 0660-XC012

First Responder Network Authority Proposed Interpretations of Parts of the Middle Class Tax Relief and Job Creation Act of 2012

AGENCY: First Responder Network Authority, National Telecommunications and Information Administration, U.S. Department of Commerce.

ACTION: Notice; correction and extension of comment period.

SUMMARY: The First Responder Network Authority (FirstNet) published a notice and request for comments in the Federal Register on September 24, 2014, titled “Proposed Interpretations of Parts of the Middle Class Tax Relief and Job Creation Act of 2012” (RFC). The RFC inadvertently included an imprecise summary of the proposed definition of “rural.” This notice corrects that error by asking commenters to disregard that summary. FirstNet is also extending the comment period for the RFC to align with the response deadline in a related Request for Information that seeks input from interested parties on approaches to, and objectives for, establishing a nationwide interoperable public safety broadband network.

DATES: Comments must be submitted on or before October 27, 2014.

FOR FURTHER INFORMATION CONTACT: Eli Veenendaal, First Responder Network Authority, National Telecommunications and Information Administration, U.S. Department of Commerce, 12201 Sunrise Valley Drive, M/S 243, Reston, VA 20192; 703-648-4167; or elijah.veenendaal@firstnet.gov.

SUPPLEMENTARY INFORMATION: On September 24, 2014, FirstNet published a notice and request for comments in the Federal Register, titled “Proposed Interpretations of Parts of the Middle Class Tax Relief and Job Creation Act of 2012” (RFC).¹ The RFC contained an imprecise summary of the proposed definition of “rural.” To correct this mistake, FirstNet requests that commenters disregard the following incorrect statement, which appears in the RFC at page 57065 of volume 79 of the Federal Register:

¹ See 79 FR 57058.

Taken collectively, the Rural Electrification Act defines the term “rural area” as a city, town, or incorporated area that has a population of less than 20,000 inhabitants and is not adjacent and contiguous to an urbanized area that has a population of greater than 50,000 inhabitants.

This text is not necessary for commenters to respond fully to the RFC.

FirstNet is also extending the comment deadline from October 24, 2014, to October 27, 2014. This short extension will align the due date for comments on the RFC with the deadline for responses in a related Request for Information that seeks input from interested parties on approaches to, and objectives for, establishing a nationwide interoperable public safety broadband network.²

² See FirstNet RFI, Presolicitation, available at https://www.fbo.gov/index?s=opportunity&mode=form&tab=core&id=f5270e6a7393316378f6ebf0589b6715&_cview=0.

All other information in the original notice remains unchanged.

Dated: October 8, 2014.
Stuart Kupinsky,
Chief Counsel, First Responder Network Authority.

[FR Doc. 2014-24367 Filed 10-10-14; 8:45 am]

BILLING CODE 3510-60-P